DEPARTMENT OF COMMERCE

National Oceanic and Atmospheric Administration

RIN 0648-XE783

Draft 2016 Marine Mammal Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act. SARs for marine mammals in the Alaska, Atlantic, and Pacific regions were revised according to new information. NMFS solicits public comments on the draft 2016 SARs.

DATES: Comments must be received by January 9, 2017.

ADDRESSES: The 2016 draft SARs are available in electronic form via the Internet at http://www.nmfs.noaa.gov/pr/sars/draft.htm.

Copies of the Alaska Regional SARs may be requested from Marcia Muto, Alaska Fisheries Science Center, NMFS, 7600 Sand Point Way, NE BIN 15700, Seattle, WA 98115-0070.

Copies of the Atlantic, Gulf of Mexico, and Caribbean Regional SARs may be requested from Elizabeth Josephson, Northeast Fisheries Science Center, 166 Water St., Woods Hole, MA 02543.

Copies of the Pacific Regional SARs may be requested from Jim Carretta, Southwest Fisheries Science Center, 8604 La Jolla Shores Drive, La Jolla, CA 92037-1508.

You may submit comments, identified by NOAA-NMFS-2016-0101, by any of the following methods:

Federal e-Rulemaking Portal: Go to www.regulations.gov/#!docketDetail;D=NOAA-NMFS-2016-0101, click the “Comment Now!” icon, complete the required fields, and enter or attach your comments.

Mail: Send comments or requests for copies of reports to: Chief, Marine Mammal and Sea Turtle Conservation Division, Office of Protected Resources, National Marine Fisheries Service, 1315 East-West Highway, Silver Spring, MD 20910-3226, Attn: Stock Assessments.

Instructions: NMFS may not consider comments if they are sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Shannon Bettridge, Office of Protected Resources, 301-427-8402, Shannon.Bettridge@noaa.gov; Marcia Muto 206-526-4026, Marcia.Muto@noaa.gov, regarding Alaska regional stock assessments; Elizabeth Josephson, 508-495-2362, Elizabeth.Josephson@noaa.gov, regarding Atlantic, Gulf of Mexico, and Caribbean regional stock assessments; or Jim Carretta, 858-546-7171, Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States, including the Exclusive Economic Zone. These reports must contain information regarding the distribution and abundance of the stock, population growth rates and trends, estimates of annual human-caused mortality and serious injury (M/SI) from all sources, descriptions of the fisheries with which the stock interacts, and the status of the stock. Initial reports were completed in 1995.

The MMPA requires NMFS and FWS to review the SARs at least annually for strategic stocks and stocks for which significant new information is available, and at least once every three years for non-strategic stocks. The term “strategic stock” means a marine mammal stock: (A) For which the level of direct human-caused mortality exceeds the potential biological removal level; (B) which, based on the best available scientific information, is declining and is likely to be listed as a threatened species under the Endangered Species Act (ESA) within the foreseeable future; or (C) which is listed as a threatened species or endangered species under the ESA. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information.

NMFS solicits public comments on the draft 2016 SARs.

Humpback Whales

On September 8, 2016, NMFS published a final rule revising the listing status of humpback whales under the ESA (81 FR 62259). We divided the globally listed endangered species into 14 distinct population segments (DPSs), removed the species-level listing, and in its place, listed four DPSs as endangered and one DPS as threatened. Based on their current statuses, the remaining nine DPSs did not warrant listing.

With regard to depleted determinations for species removed from the ESA, the ESA listing rule states, “The language and structure of the MMPA's definition of depleted lead NMFS to the conclusion that a species or stock that is designated as depleted solely on the basis of its ESA listing status would cease to qualify as depleted under the terms of that definition if it is no longer listed. Therefore, a species or stock that is removed from the list of threatened and endangered species loses its depleted status when removed from the list . . . Humpback whales were considered to be depleted species-wide under the MMPA solely on the basis of the species' ESA listing. Therefore, upon the effective date of the rule, humpback whales that are listed as threatened or endangered will retain depleted status under the MMPA and humpback whales that are not listed as threatened or endangered will lose depleted status under the MMPA. However, we note that the DPSs established in this final rule that occur in waters under the jurisdiction of the United States do not necessarily equate to the existing MMPA stocks for which Stock Assessment Reports (SARs) have been published in accordance with section 117 of the MMPA (16 U.S.C. 1386). Following publication of this rule, we will conduct a review of humpback whale stock delineations in waters under the jurisdiction of the United States to determine whether any stocks should be realigned in light of the ESA DPSs established herein. Until such time as the MMPA stock delineations are reviewed, because we cannot manage one portion of a stock as depleted and another portion as not depleted under the MMPA, we will treat existing MMPA stocks that fully or partially coincide with a listed DPS as depleted and stocks that do not fully or partially coincide with a listed DPS as not depleted for management purposes. Therefore, in the interim, we will treat the Western North Pacific, Central North Pacific, and California/Oregon/Washington stocks as depleted because they partially or fully coincide with ESA-listed DPSs, and we will treat the Gulf of Maine and American Samoa stocks as no longer depleted because they do not coincide with any ESA-listed DPS. Any changes in stock delineation or MMPA section 117 elements (such as Potential Biological Removal (PBR) or strategic status) will be reflected in future stock assessment reports, and the Scientific Review Groups and the public will be provided opportunity to review and comment.”

In response to this revision to the humpback whale listing status, NMFS is currently evaluating the humpback whale stock delineations and whether we can align the stocks with the DPSs. This does not affect the stock delination for the current SARs, but will be reflected in future reports once the evaluation is complete.

Alaska Reports

In the Alaska region, SARs for 19 Alaska stocks (13 “strategic,” 6 “non-strategic”) were updated. All stocks were reviewed and the following stocks were revised for 2016: Steller sea lion, western U.S.; Steller sea lion, eastern U.S.; northern fur seal, eastern Pacific; bearded seal, Alaska; ringed seal, Alaska; beluga whale, Cook Inlet; killer whale, AT1 Transient; killer whale, eastern North Pacific Alaska resident; killer whale, eastern North Pacific Gulf of Alaska, Aleutian Islands, and Bering Sea Transient; harbor porpoise, Southeast Alaska; harbor porpoise, Gulf of Alaska; harbor porpoise, Bering Sea; sperm whale, North Pacific; humpback whale, Western North Pacific; humpback whale, Central North Pacific; fin whale, Northeast Pacific; right whale, Eastern North Pacific; bowhead whale, Western Arctic; narwhal, unidentified stock. Information on the remaining Alaska region stocks can be found in the final 2015 reports (Muto et al., 2016).

Most revisions to the Alaska SARs included updates of abundance and/or M/SI estimates, including revised abundance estimates for both the western and eastern U.S. Steller sea lion stocks; northern fur seal, eastern Pacific; beluga whale, Cook Inlet; bearded seal, Alaska; ringed seal, Alaska; and fin whale, Northeast Pacific stocks. The following SARs include the abundance estimates from partial surveys as the Nmin, along with statements that the underestimated Nmins are not reliable; thus they should not be used in certain management actions: Bearded seal, Alaska; ringed seal, Alaska; harbor porpoise, Southeast Alaska; and fin whale, Northeast Pacific. Additionally, Nmins determined under these circumstances will not be included in the summary tables, but will instead include a caveat placeholder which defers to the SAR text. Additionally, mortalities from permitted research activities were updated for western and eastern U.S. Steller sea lion stocks and the Alaska stock of ringed seals. Also reflected is a shift in genera classification for the ringed seal, from Phoca to Pusa.

The eastern U.S. stock of Steller sea lion changed in status from “strategic” to “non-strategic.” This status change is consistent with the recent humpback whale ESA listing final rule (81 FR 62259; September 8, 2016), which states that in the case of a species or stock that achieved its depleted status solely on the basis of its ESA status, the species or stock would cease to qualify as depleted under the terms of the definition set forth in MMPA section 3(1), if the species or stock is no longer listed as threatened or endangered. NMFS took the opportunity during the public comment period related to that rule to clarify our interpretation that loss of depleted status is automatic at the time of a delisting if the sole basis for the species or stocks' depleted status was an ESA listing. As a result, the eastern Steller sea lion is now considered to be not depleted and no longer qualifies as a strategic stock (as human-caused mortality or serious injury does not exceed PBR). The draft 2016 SAR reflects these changes and, accordingly, the PBR has been recalculated (using a recovery factor appropriate for a non-strategic stock) and increased from 1,645 to 2,498.

Atlantic Reports

In the Atlantic region (including the Atlantic Ocean, Gulf of Mexico, and U.S. territories in the Caribbean), 18 reports for 44 stocks were updated. Of the updated stocks, 32 stocks are “strategic,” and 12 are “non-strategic.”

All stocks were reviewed and reports for the following strategic stocks were revised for 2016: North Atlantic right whale, Western Atlantic; humpback whale, Gulf of Maine; fin whale, Western North Atlantic (WNA); sei whale, Nova Scotia; short-finned pilot whale, WNA; and 27 Gulf of Mexico bay, sound, and estuary common bottlenose dolphin stocks. Two stocks, the WNA stocks of short-finned and long-finned pilot whales, changed from “non-strategic” to “strategic” this year because the mean annual human-caused mortality and serious injury exceeds PBR; the Gulf of Maine humpback whale stock has changed from “strategic” to “non-strategic.”

Reports for the following non-strategic stocks were revised for 2016: Minke whale, Canadian east coast; Risso's dolphin, WNA; Atlantic white-sided dolphin, WNA; short-beaked common dolphin, WNA; harbor porpoise, Gulf of Maine/Bay of Fundy; harbor seal, WNA; gray seal, WNA; rough-toothed dolphin, Northern Gulf of Mexico; pygmy sperm whale, WNA; dwarf sperm whale, WNA; and common bottlenose dolphin, WNA offshore. Information on the remaining Atlantic region stocks can be found in the final 2015 reports (Waring et al., 2016).

Most revisions to the Atlantic SARs included updates of abundance and/or M/SI estimates. New abundance estimates are available for the North Atlantic right whale, Western Atlantic; minke whale, Canadian east stock; short-beaked common dolphin, WNA stock; and common bottlenose dolphin, Sarasota Bay, Little Sarasota Bay. The following common bottlenose dolphin, Gulf of Mexico bay, sound, and estuary stocks no longer have usable abundance and/or PBR estimates because the survey data on which they are based are more than eight years old and no longer considered unreliable (per NMFS Guidelines for Assessing Marine Mammal Stocks): Choctawhatchee Bay; St. Joseph Bay; St. Vincent Sound, Apalachicola Bay, St. George Sound; Waccasassa Bay, Withalacoochee Bay, Crystal Bay; St. Joseph Sound, Clearwater Harbor; Tampa Bay; Estero Bay; Chokoloskee Bay, Ten Thousand Islands, Gullivan Bay; Whitewater Bay; and Florida Keys (Bahia Honda to Key West).

As a result of the humpback whale ESA listing rule (81 FR 62259; September 8, 2016), the Gulf of Maine stock of humpback whales is no longer considered ESA listed or depleted. In the previous SAR, the recovery factor was 0.1 because this stock was listed as an endangered species under the ESA. In the draft 2016 SAR, the recovery factor was revised to 0.5, the default value for stocks of unknown status relative to OSP. Values other than the defaults for any stock should usually not be used without the approval of the regional Scientific Review Group, and scientific justification for the change should be provided in the SAR. As the listing change occurred after the February 2016 SRG Meeting, NMFS has applied the default recovery factor of 0.5 to the draft 2016 SAR. As a result, the PBR increased from 2.7 to 13. Human-caused mortality and serious injury is now below PBR, and the stock has changed from “strategic” to “non-strategic.” The Atlantic SRG will discuss the recovery factor for this stock at its February 2017 meeting.

Abundance estimates for the minke whale Canadian east stock and short-beaked common dolphin WNA stock are substantially lower than what was reported in the 2015 SARs. This is because the new estimates exclude data from the 2007 Canadian Trans-North Atlantic Sighting Survey, as they were more than eight years old. Thus, the revised estimates for these stocks should not be interpreted as a decline in abundance of these stocks, as previous estimates are not directly comparable to the new estimates.

Pacific Reports

In the Pacific region (waters along the west coast of the United States, within waters surrounding the main and Northwestern Hawaiian Islands (NWHI), and within waters surrounding U.S. territories in the Western Pacific), SARs were revised for 23 stocks under NMFS jurisdiction (8 “strategic” and 15 “non-strategic” stocks). All stocks were reviewed and reports for the following “strategic” stocks were revised for 2016: Hawaiian monk seal; killer whale, Eastern North Pacific Southern Resident; false killer whale, Main Hawaiian Islands (MHI) Insular; false killer whale, Hawaii Pelagic; humpback whale, California/Oregon/Washington (CA/OR/WA); fin whale, CA/OR/WA; sei whale, Eastern North Pacific; and Guadalupe fur seal, Mexico to California. Reports for the following “non-strategic” stocks were revised for 2016: False killer whale, NWHI; harbor porpoise, Washington inland waters; Dall's porpoise, CA/OR/WA; Pacific white-sided dolphin, CA/OR/WA; Risso's dolphin, CA/OR/WA; common bottlenose dolphin, California Coastal; common bottlenose dolphin, CA/OR/WA Offshore; striped dolphin, CA/OR/WA; short-beaked common dolphin, CA/OR/WA; long-beaked common dolphin, California; Northern right whale dolphin, CA/OR/WA; short-finned pilot whale, CA/OR/WA; pygmy sperm whale, CA/OR/WA; dwarf sperm whale, CA/OR/WA; and minke whale, CA/OR/WA. Information on the remaining Pacific region stocks can be found in the final 2015 reports (Carretta et al., 2016a).

Several abundance estimates for Pacific stocks were changed in the draft 2016 reports following the application of a new approach for estimating the g(0) parameter, the probability of detecting an animal that is directly on the transect line, in different survey conditions (Beaufort sea state) (Barlow 2016). An analysis found that g(0) decreases as Beaufort sea state increases, even for visually conspicuous species. The following stocks reflect these abundance (and PBR) changes: Kogia spp.; Dall's porpoise, CA/OR/WA; Northern right whale dolphin, CA/OR/WA; Pacific white-sided dolphin, CA/OR/WA; Risso's dolphin, CA/OR/WA; striped dolphin, CA/OR/WA; short-beaked common dolphin, CA/OR/WA; long-beaked common dolphin, CA/OR/WA; short-finned pilot whale, CA/OR/WA; fin whale, CA/OR/WA; and minke whale, CA/OR/WA.

A new methodology was applied to bycatch estimated for some coastal Pacific stocks. Recent work shows that estimates of carcass recovery (0.25, 95 percent confidence interval = 0.20−0.33) for an extremely-coastal dolphin population suggests that observed anthropogenic mortality values of dolphins in this region derived from strandings should be corrected to account for unobserved mortality (Carretta et al., 2016b). Therefore, within the draft SARs involving dolphins along the U.S. West Coast, human-related deaths and injuries counted from beach strandings are multiplied by a factor of four to account for the non-detection of most carcasses. This correction factor affected the M/SI for the following stocks: harbor porpoise, Washington inland waters; Risso's dolphin, CA/OR/WA; striped dolphin, CA/OR/WA; short-beaked common dolphin, CA/OR/WA; long-beaked common dolphin, CA/OR/WA; bottlenose dolphin, California coastal; and bottlenose dolphin, CA/OR/WA offshore.

Additional stocks with updated abundance and/or M/SI estimates include: Harbor porpoise, Washington inland waters; Guadalupe fur seal, Mexico to California; Hawaiian monk seal; killer whale, Eastern North Pacific Southern Resident; humpback whale, CA/OR/WA; sei whale, Eastern North Pacific; false killer whale, Hawaii pelagic; false killer whale, MHI Insular; and false killer whale, NWHI.

Dated: October 4, 2016.
Donna S. Wieting,
Director, Office of Protected Resources, National Marine Fisheries Service.

[FR Doc. 2016-24404 Filed 10-7-16; 8:45 am]

BILLING CODE 3510-22-P